DEPARTMENT OF ENERGY

Federal Energy Regulatory Commission

[Docket No. ER97-705-011, et al.]

Con Edison Solutions, Inc., et al.; Electric Rate and Corporate Regulation Filings

February 15, 2000.

Take notice that the following filings have been made with the Commission:

1. Con Edison Solutions, Inc. MIECO, Inc.

[Docket Nos. ER97-705-011 and ER98-51-010]

Take notice that on February 8, 2000, the above-mentioned power marketers filed quarterly reports with the Commission in the above-mentioned proceedings for information only.

2. Idaho Power Company

[Docket No. ER99-4560-001]

Take notice that on February 10, 2000, Idaho Power Company tendered for filing its compliance filing in the above-captioned docket.

Comment date: March 2, 2000, in accordance with Standard Paragraph E at the end of this notice.

3. Arco CQC Kiln, Inc.

[Docket No. ER00-443-001]

Take notice that on January 31, 2000, Arco CQC Kiln, Inc. (Arco) filed an amendment to its FERC Electric Tariff, Original Volume No. 1, Original Page No. 1, in compliance with the Commission's directives of December 16, 1999. The amendment (1) limits sales of ancillary services by Arco to those made within the market administered by the California Independent System Operator; (2) redesignates the title of the tariff in accordance with Commission policy; and (3) reflects the date of the Commission's approval in the designation of the tariff. In addition, Arco clarified that Arco does not require the authority to assign transmission rights; and therefore omitted such authority in the amended tariff.

Comment date: February 29, 2000, in accordance with Standard Paragraph E at the end of this notice.

4. West Penn Power Company

[Docket No. ER00-1127-000]

Take notice that on February 8, 2000, West Penn Power Company (West Penn) filed supplemental information to the electric rate filing for the new Bilateral Wholesale Requirements Contract between West Penn and The Letterkenny Industrial Development Authority (LIDA), filed January 18, 2000.

Comment date: February 29, 2000, in accordance with Standard Paragraph E at the end of this notice.

5. Allegheny Energy Service Corporation, on behalf of Monongahela Power Company, The Potomac Edison Company, and West Penn Power Company (Allegheny Power)

[Docket No. ER00-1149-000]

Take notice that on February 8, 2000, Allegheny Energy Service Corporation on behalf of Monongahela Power Company, The Potomac Edison Company and West Penn Power Company (Allegheny Power), filed Amendment No. 1 to Supplement No. 69 to submit a complete service agreement to add Engage Energy US, L.P. as a long term firm point-to-point transmission customer to Allegheny Power Open Access Transmission Service Tariff which has been accepted for filing by the Federal Energy Regulatory Commission in Docket No. ER96-58-000.

The proposed effective date under the Service Agreement is January 18, 2000 or a date ordered by the Commission.

Copies of the filing have been provided to the Public Utilities Commission of Ohio, the Pennsylvania Public Utility Commission, the Maryland Public Service Commission, the Virginia State Corporation Commission, and the West Virginia Public Service Commission.

Comment date: February 29, 2000, in accordance with Standard Paragraph E at the end of this notice.

6. Potomac Electric Power Company

[Docket No. ER00-1257-000]

Take notice that on February 10, 2000, Potomac Electric Power Company (Pepco), tendered for filing a service agreement pursuant to Pepco FERC Electric Tariff, Original Volume No. 4, entered into between Pepco and Allegheny Power Service Corporation as agent for this service agreement, with waiver of notice, is requested.

Comment date: March 2, 2000, in accordance with Standard Paragraph E at the end of this notice.

7. Tampa Electric Company

[Docket No. ER00-1562-000]

Take notice that on February 9, 2000, Tampa Electric Company (Tampa Electric) tendered for filing service agreements with the Utilities Commission, City of New Smyrna Beach, Florida (New Smyrna Beach) for firm and non-firm point-to-point transmission service under Tampa Electric's open access transmission tariff. Tampa Electric also tendered for filing revised tariff customer index sheets showing the new entries for New Smyrna Beach and a name change for Dynegy Power Marketing, Inc. (Dynegy).

Tampa Electric proposes an effective date of January 24, 2000, for the tendered service agreements and tariff sheets, and therefore requests waiver of the Commission's notice requirement.

Copies of the filing have been served on New Smyrna Beach, Dynegy, and the Florida Public Service Commission.

Comment date: March 1, 2000, in accordance with Standard Paragraph E at the end of this notice.

8. California Independent System Operator Corporation

[Docket No. ER00-1563-000]

Take notice that on February 9, 2000, the California Independent System Operator Corporation tendered for filing a Scheduling Coordinator Agreement between the ISO and the Public Service Company of Colorado for acceptance by the Commission.

The ISO states that this filing has been served on the Public Service Company of Colorado and the California Public Utilities Commission.

The ISO is requesting waiver of the 60-day notice requirement to allow the Scheduling Coordinator Agreement to be made effective as of February 4, 2000.

Comment date: March 1, 2000, in accordance with Standard Paragraph E at the end of this notice.

9. California Independent System Operator Corporation

[Docket No. ER00-1564-000]

Take notice that on February 9, 2000, the California Independent System Operator Corporation tendered for filing a Meter Service Agreement for ISO Metered Entities between the ISO and San Joaquin Cogen Limited for acceptance by the Commission.

The ISO states that this filing has been served on San Joaquin Cogen Limited and the California Public Utilities Commission.

The ISO is requesting waiver of the 60-day notice requirement to allow the Meter Service Agreement for ISO Metered Entities to be made effective January 26, 2000.

Comment date: March 1, 2000, in accordance with Standard Paragraph E at the end of this notice.

10. Puget Sound Energy, Inc.

[Docket No. ER00-1583-000]

Take notice that on February 9, 2000, Puget Sound Energy, Inc. (Puget) tendered for filing the 1999-2000 Operating Procedures under the Pacific Northwest Coordination Agreement (PNCA).

Puget states that the 1999-2000 Operating Procedures relate to service under the PNCA. A copy of the filing was served upon the parties to the PNCA.

Comment date: March 1, 2000, in accordance with Standard Paragraph E at the end of this notice.

11. Avista Corporation

[Docket No. ER00-1584-000]

Take notice that on February 9, 2000, Avista Corporation (Avista Corp), tendered for filing with the Federal Energy Regulatory Commission pursuant to 18 CFR 35.13, an executed Service Agreement under Avista Corporation's FERC Electric Tariff First Revised Volume No. 10, with Public Utility District No. 1 of Pend Oreille County which replaces a previously filed unsigned agreement under ER00-0732-00, service agreement no. 17.

Avista Corporation requests waiver of the prior notice requirements and requests the same effective date of November 10, 1999, which was previously approved for the unsigned agreement.

Notice of this filing has been served upon the following: Mr. Dick L. Arkills, Director, Power Supply & Engineering, Pend Oreille PUD, Box Canyon Dam, P O Box 547, Ione, WA 99139.

Comment date: March 1, 2000, in accordance with Standard Paragraph E at the end of this notice.

12. Allegheny Energy Service Corporation, on behalf of Monongahela Power Company, The Potomac Edison Company, and West Penn Power Company (Allegheny Power)

[Docket No. ER00-1585-000]

Take notice that on February 9, 2000, Allegheny Energy Service Corporation on behalf of Monongahela Power Company, The Potomac Edison Company and West Penn Power Company (Allegheny Power), filed Supplement No. 1 to the Allegheny Power Pro Forma Open Access Transmission Tariff, Second Revised Volume No. 5 which was filed with the Commission on January 27, 2000 and amended on February 2, 2000. The purpose of Supplement No. 1 was to provide a list of the parties to whom the filings of January 27, 2000 and February 2, 2000 have been mailed.

Copies of the filings of January 27, 2000 and February 2, 2000 have been provided to all jurisdictional customers, to the Public Utilities Commission of Ohio, the Pennsylvania Public Utility Commission, the Maryland Public Service Commission, the Virginia State Corporation Commission, the West Virginia Public Service Commission, and all parties of record.

Comment date: March 1, 2000, in accordance with Standard Paragraph E at the end of this notice.

13. Rocky Road Power, LLC

[Docket No. ER00-1586-000]

Take notice that on February 9, 2000, Rocky Road Power, LLC (Rocky Road) tendered for filing a proposed Emergency Redispatch Service tariff. The tariff provides for the dispatch of the Rocky Road Facility by Commonwealth Edison Company during emergencies.

Rocky Road requests that the notice requirements set forth in Rule 35.3(a) be waived to the extent required to allow the tariff to become effective as of February 9, 2000.

Comment date: March 1, 2000, in accordance with Standard Paragraph E at the end of this notice.

14. California Independent System Operator Corporation

[Docket No. ER00-1587-000]

Take notice that on February 10, 2000, the California Independent System Operator Corporation (ISO), tendered for filing a third revision (Revision 3) to Appendix A of the Responsible Participating Transmission Owner Agreement between the ISO and Southern California Edison Company, for acceptance by the Commission. The purpose of Revision 3 is to further amend the list of Existing Rightholders and Existing Contracts to remove agreements with the City of Pasadena (Pasadena) and the Sacramento Municipal Utility District (SMUD).

The ISO states that this filing has been served on the parties named in the official service list for Docket Nos. ER98-1057-000, et al.

The ISO is requesting waiver of the 60-day notice requirement to allow the provisions in Revision 3 that pertain to Pasadena to be made effective on the latter of (1) the date the Commission accepts for filing Amendment No. 2 to the Edison—Pasadena 230 kV Interconnection and Transmission Service Agreement, or (2) the effective date of Pasadena becoming its own Scheduling Coordinator or designating a new Scheduling Coordinator.

The ISO is also requesting waiver of the 60-day prior notice requirement to allow the provisions in Revision 3 that pertain to SMUD to be made effective as of April 1, 1999.

Comment date: March 2, 2000, in accordance with Standard Paragraph E at the end of this notice.

15. Peco Energy Company

[Docket No. ER00-1588-000]

Take notice that on February 10, 2000, PECO Energy Company (PECO), tendered for filing under Section 205 of the Federal Power Act, 16 U.S.C. S 792 et seq., an Agreement dated October 5, 1998 with TXU Electric Company (TXU) under PECO's FERC Electric Tariff Original Volume No. 1 (Tariff).

PECO requests an effective date of March 10, 2000, for the Agreement.

PECO states that copies of this filing have been supplied to TXU Electric Company and to the Pennsylvania Public Utility Commission.

Comment date: March 2, 2000, in accordance with Standard Paragraph E at the end of this notice.

16. Portland General Electric Company

[Docket No. ER00-1589-000]

Take notice that on February 10, 2000, Portland General Electric Company (PGE), tendered for filing under PGE's Final Rule pro forma tariff (FERC Electric Tariff First Revised Volume No. 8, Docket No. OA96-137-000), executed Service Agreements for Short-Term Firm and Non-Firm Point-to-Point Transmission Service with Sierra Pacific Energy Co.

Pursuant to 18 CFR Section 35.11, and the Commission's Order in Docket No. PL93-2-002 issued July 30, 1993, PGE respectfully requests that the Commission grant a waiver of the notice requirements of 18 CFR Section 35.3 to allow the Service Agreement to become effective January 12, 2000.

A copy of this filing was caused to be served upon Sierra Pacific Energy Co., as noted in the filing letter.

Comment date: March 2, 2000, in accordance with Standard Paragraph E at the end of this notice.

17. New York State Electric & Gas Corporation

[Docket No. ER00-1591-000]

Take notice that on February 10, 2000 New York State Electric & Gas Corporation (NYSEG), tendered for filing amendments to NYSEG's FERC Rate Schedules 26 and 87 filed with FERC corresponding to transmission agreements between NYSEG and Central Hudson Gas & Electric Corporation (Central Hudson) and NYSEG and Consolidated Edison Company of New York, Inc. (Con Edison), respectively. The filing consists of the restated amendments which correct amendments filed on July 9, 1999 (the July 9 Filing) by the Member Systems of the New York Power Pool in compliance with the Commission's January 27, 1999 Order in the captioned dockets.

NYSEG requests that the effective date of these amendments be made retroactive to November 18, 1999, the implementation date of the New York Independent System Operator.

Copies of this filing have been served upon Central Hudson, Con Edison, and the Public Service Commission of the State of New York.

Comment date: March 2, 2000, in accordance with Standard Paragraph E at the end of this notice.

18. Portland General Electric Company

[Docket No. ER00-1592-000]

Take notice that on February 10, 2000, Portland General Electric Company (PGE), tendered for filing under PGE's Final Rule pro forma tariff (FERC Electric Tariff First Revised Volume No. 8, Docket No. OA96-137-000), executed Service Agreements for Short-Term Firm and Non-Firm Point-to-Point Transmission Service with Arizona Public Service.

Pursuant to 18 CFR Section 35.11, and the Commission's Order in Docket No. PL93-2-002 issued July 30, 1993, PGE respectfully requests that the Commission grant a waiver of the notice requirements of 18 CFR Section 35.3 to allow the Service Agreement to become effective January 12, 2000.

A copy of this filing was caused to be served upon Arizona Public Service, as noted in the filing letter.

Comment date: March 2, 2000, in accordance with Standard Paragraph E at the end of this notice.

19. Duke Power, a division of Duke Energy Corporation

[Docket No. ER00-1593-000]

Take notice that on February 10, 2000, Duke Power (Duke), a division of Duke Energy Corporation, tendered for filing a Service Agreement with Alliant Energy Corporate Services, Inc., for power sales at market-based rates.

Duke requests that the proposed Service Agreement be permitted to become effective on January 31, 2000.

Duke states that this filing is in accordance with Part 35 of the Commission's Regulations and a copy has been served on the North Carolina Utilities Commission.

Comment date: March 2, 2000, in accordance with Standard Paragraph E at the end of this notice.

20. Dighton Power Associates Limited Partnership, Dartmouth Power Associates Limited Partnership

[Docket Nos. ER00-1594-000 and ER00-1595-000]

Take notice that on February 8, 2000, the above-mentioned affiliated power producers and/or public utilities filed their quarterly reports for the quarter ending December 31, 1999.

Comment date: March 6, 2000, in accordance with Standard Paragraph E at the end of this notice.

21. Potomac Electric Power Company

[Docket No. ER00-1600-000]

Take notice that on February 3, 2000, Potomac Electric Power Company (Pepco), tendered for filing a service agreement pursuant to Pepco FERC Electric Tariff, Original Volume No. 4, entered into between Pepco and Williams Energy Marketing & Trading Company.

An effective date of January 26, 2000 for these service agreements, with waiver of notice, is requested.

Comment date: March 2, 2000, in accordance with Standard Paragraph E at the end of this notice.

22. Northeast Utilities Service Company

[Docket No. ER00-1601-000]

Take notice that on February 10, 2000, Northeast Utilities Service Company (NUSCO), tendered for filing, Service Agreement to provide Non-Firm Point-To-Point Transmission Service to PG&E Energy Trading-Power, L.P., under the NU System Companies' Open Access Transmission Service Tariff No. 9.

NUSCO states that a copy of this filing has been mailed to PG&E Energy Trading-Power, L.P.

NUSCO requests that the Service Agreement become effective March 10, 2000.

Comment date: March 2, 2000, in accordance with Standard Paragraph E at the end of this notice.

23. Southern Indiana Gas and Electric Company

[Docket No. ER00-1602-000]

Take notice that on February 10, 2000, Southern Indiana Gas and Electric Company (SIGECO), tendered for filing service agreements for firm and non-firm transmission service under Part II of its Transmission Services Tariff with British Columbia Power Exchange Corporation (Powerex).

Copies of the filing were served upon each of the parties to the service agreement.

Comment date: March 2, 2000, in accordance with Standard Paragraph E at the end of this notice.

24. PacifiCorp

[Docket No. ER00-1603-000]

Take notice that PacifiCorp on February 10, 2000, tendered for filing in accordance with 18 CFR 35 of the Commission's Rules and Regulations, a Short-term Firm Transmission Service Agreement with Coral Power, L.L.C. (Coral), under PacifiCorp's FERC Electric Tariff, First Revised Volume No. 11.

Copies of this filing were supplied to the Washington Utilities and Transportation Commission and the Public Utility Commission of Oregon.

Comment date: March 2, 2000, in accordance with Standard Paragraph E at the end of this notice.

25. PP&L, Inc.

[Docket No. ER00-1604-000]

Take Notice that on February 10, 2000, PP&L, Inc. (PP&L), tendered for filing a Service Agreement dated January 21, 2000, with Merrill Lynch Capital Services, Inc. (MLCS), under PP&L's Market-Based Rate and Resale of Transmission Rights Tariff, FERC Electric Tariff, Revised Volume No. 5. The Service Agreement adds MLCS as an eligible customer under the Tariff.

PP&L requests an effective date of February 10, 2000, for the Service Agreement.

PP&L states that copies of this filing have been supplied to MLCS and to the Pennsylvania Public Utility Commission.

Comment date: March 2, 2000, in accordance with Standard Paragraph E at the end of this notice.

26. Northeast Utilities Service Company

[Docket No. ER00-1605-000]

Take notice that on February 10, 2000, Northeast Utilities Service Company (NUSCO), tendered for filing, Service Agreement to provide Firm Point-To-Point Transmission Service to PG&E Energy Trading-Power, L.P., under the NU System Companies' Open Access Transmission Service Tariff No. 9.

NUSCO states that a copy of this filing has been mailed to PG&E Energy Trading-Power, L.P.

NUSCO requests that the Service Agreement become effective March 10, 2000.

Comment date: March 2, 2000, in accordance with Standard Paragraph E at the end of this notice.

27. Arizona Public Service Company

[Docket No. ER00-1606-000]

Take notice that on February 11, 2000, Arizona Public Service Company (APS), tendered for filing revisions to Service Schedules A and B to its Electric Coordination Tariff, FERC Electric Tariff Volume No. 1.

A copy of this filing has been served on all parties on the Service List.

Comment date: March 3, 2000, in accordance with Standard Paragraph E at the end of this notice.

28. Allegheny Energy Service Corporation on behalf of Allegheny Energy Supply Company, LLC

[Docket No. ER00-1610-000]

Take notice that on February 11, 2000, Allegheny Energy Service Corporation on behalf of Allegheny Energy Supply Company, LLC (Allegheny Energy Supply), tendered for filing Supplement No. 24 to add one (1) new Customer to the Market Rate Tariff under which Allegheny Energy Supply offers generation services.

Allegheny Energy Supply requests a waiver of notice requirements to make service available as of January 27, 2000 to Cleco Marketing & Trading LLC.

Copies of the filing have been provided to the Public Utilities Commission of Ohio, the Pennsylvania Public Utility Commission, the Maryland Public Service Commission, the Virginia State Corporation Commission, the West Virginia Public Service Commission, and all parties of record.

Comment date: March 3, 2000, in accordance with Standard Paragraph E at the end of this notice.

29. Allegheny Energy Service Corporation,on behalf of Monongahela Power Company,The Potomac Edison Company, and West Penn Power Company (Allegheny Power)

[Docket No. ER00-1611-000]

Take notice that on February 11, 2000, Allegheny Energy Service Corporation on behalf of Monongahela Power Company, The Potomac Edison Company and West Penn Power Company (Allegheny Power), tendered Supplement No. 71 to add Sempra Energy Trading Corp., to Allegheny Power Open Access Transmission Service Tariff which has been accepted for filing by the Federal Energy Regulatory Commission in Docket No. ER96-58-000.

The proposed effective date under the Service Agreement is February 10, 2000 or a date ordered by the Commission.

Copies of the filing have been provided to the Public Utilities Commission of Ohio, the Pennsylvania Public Utility Commission, the Maryland Public Service Commission, the Virginia State Corporation Commission, and the West Virginia Public Service Commission.

Comment date: March 3, 2000, in accordance with Standard Paragraph E at the end of this notice.

30. Tucson Electric Power Company

[Docket No. ER00-1612-000]

Take notice that on February 10, 2000, Tucson Electric Power Company (Tucson), tendered for filing an Umbrella Service Agreement between Tucson and Phelps Dodge Energy Services, L.L.C., for short-term power sales under Tucson's Market-Based Power Sales Tariff, FERC Electric Tariff Original Volume No. 3.

Comment date: March 3, 2000, in accordance with Standard Paragraph E at the end of this notice.

31. Commonwealth Edison Company

[Docket No. ER00-1613-000]

Take notice that on February 11, 2000, Commonwealth Edison Company (ComEd), tendered for filing a Service Agreement, establishing Peoples Energy Services Corporation, as a customer under the terms of ComEd's Power Sales and Reassignment of Transmission Rights Tariff PSRT-1 (PSRT-1 Tariff). The Commission has previously designated the PSRT-1 Tariff as FERC Electric Tariff, First Revised Volume No. 2.

ComEd also submits for filing a revised Index of Customers reflecting name changes for current customers: First Energy Trading and Power Marketing, Inc., renamed FirstEnergy Trading Services, Inc.; Electric Clearinghouse, Inc., renamed Dynegy Power Marketing, Inc.; El Paso Power Services Company and Sonat Power Marketing Company L.P., consolidated and renamed El Paso Merchant Energy, L.P.; and Illinova Power Marketing, Inc., renamed Illinova Energy Partners.

ComEd requests an effective date of January 28, 2000, and accordingly seeks waiver of the Commission's notice requirements. Copies of this filing were served upon PESC, FET, DYN, EPME, and IEP.

Comment date: March 3, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-4209 Filed 2-22-00; 8:45 am]

BILLING CODE 6717-01-P